DEPARTMENT OF TRANSPORTATION

Federal Aviation Administration

Notice of Intent to Rule on Request to Release Airport Land at the Chiriaco Summit Airport, Chiriaco Summit, California

AGENCY: Federal Aviation Administration (FAA), DOT.

ACTION: Notice of request to release airport land.

SUMMARY: The FAA proposes to rule and invites public comment on the release of approximately 1.72 acres of land at Chiriaco Summit Airport, Chiriaco Summit, California, from all restrictions of the surplus property agreement. The purpose of the release is to permit the sale of the property for construction of an electrical substation to serve the airport and surrounding community.

DATES: Comments must be received on or before March 2, 2001.

ADDRESSES: Comments on this application may be mailed or delivered in triplicate to the FAA at the following address: Federal Aviation Administration, Airports Division, 15000 Aviation Blvd., Lawndale, CA 90261. In addition, one copy of any comments submitted to the FAA must be mailed or delivered to Mr. Keith D. Downs, Grant Manager, Economic Development Agency, Riverside County, 3525 Fourteenth Street, Riverside, CA 92501.

FOR FURTHER INFORMATION CONTACT: Mr. Ellsworth Chan, Manager, Safety and Standards Branch, AWP-620, 15000 Aviation Blvd., Lawndale, CA 90261, Telephone: (310) 725-3620. The request to release airport property may be reviewed in person at this same location.

SUPPLEMENTARY INFORMATION: On April 5, 2000, new authorizing legislation became effective. That bill, the Wendell H. Ford Aviation Investment and Reform Act for the 21st Century (AIR 21), Public Law 10-181 (Apr. 5, 2000; 114 Stat. 61), requires that a 30 day public notice must be provided before the Secretary may waive any condition imposed on an interest in surplus property.

The following is a brief overview of the request:

The county of Riverside requested the release of approximately 1.72 acres of dedicated airport land at Chiriaco Summit Airport, Chiriaco Summit, California, from surplus property agreement obligations. The purpose of the release is to permit the sale of the property to the Imperial Irrigation District (IID) for non-aviation uses. The IID proposes to use the property for development of an electrical substation to serve the Chiriaco Summit Airport and the surrounding community. The net proceeds will be utilized for airport improvements.

Issued in Hawthorne, California, on January 11, 2001.
Herman C. Bliss,
Manager, Airports Division, Western-Pacific Region.

[FR Doc. 01-2649 Filed 1-30-01; 8:45 am]

BILLING CODE 4910-13-M